OFFICE OF PERSONNEL MANAGEMENT

Submission for Review: Representative Payee Application/Information Necessary for a Competency Determination

AGENCY: Office of Personnel Management.

ACTION: 30-Day notice and request for comments.

SUMMARY: In accordance with the Paperwork Reduction of 1995, Retirement Services, Office of Personnel Management (OPM) is offering the general public and other federal agencies the opportunity to comment on a revised information collection request (ICR), RI 20-7 [Representative Payee Application] and RI 30-3 [Information for a Competency Determination].

DATES: Comments are encouraged and will be accepted until April 10, 2023.

ADDRESSES: Written comments and recommendations for the proposed information collection should be sent within 30 days of publication of this notice to http://www.reginfo.gov/public/do/PRAMain. Find this particular information collection by selecting “Currently under Review—Open for Public Comments” or by using the search function.

FOR FURTHER INFORMATION CONTACT: A copy of this ICR with applicable supporting documentation, may be obtained by contacting the Retirement Services Publications Team, Office of Personnel Management, 1900 E Street NW, Room 3316-L, Washington, DC 20415, Attention: Cyrus S. Benson, or may be obtained by sending an email to Cyrus.Benson@opm.gov or by fax to (202) 606-0910 or via telephone at (202) 606-4808.

SUPPLEMENTARY INFORMATION: As required by the Paperwork Reduction Act of 1995, Public Law 104-13, 109 Stat. 163 (44 U.S.C. 35) as amended by the Clinger-Cohen Act of 1996, Public Law 104-106, 110 Stat. 642 (40 U.S.C. 1401 et seq.), OPM is soliciting comments for this collection (OMB No. 3206-0140). The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Form RI 20-7 is used by the Civil Service Retirement System (CSRS) and the Federal Employees Retirement System (FERS) to collect information from persons who apply to be fiduciaries for annuitants or survivor annuitants who appear to be incapable of handling their own funds or for minor children. RI 30-3 is an enclosure to RI 20-7 and is needed for adult annuitants who are alleged to be incompetent. RI 30-3 collects medical information regarding the annuitant's competency for OPM's use in evaluating the annuitant's condition.

Analysis

Agency: Retirement Services, Office of Personnel Management.

Title: Representative Payee Application/Information Necessary for a Competency Determination.

OMB Number: 3206-0140.

Frequency: On occasion.

Affected Public: Individuals or Organizations.

Number of Respondents: 12,480 [RI 20-7] and 250 [RI 30-3].

Estimated Time per Respondent: 30 minutes [RI 20-7] and 1 hour [RI 30-3].

Total Burden Hours: 6,240 [RI 20-7] and 250 [RI 30-3].

Office of Personnel Management.

Kellie Cosgrove Riley,
Director, Office of Privacy and Information Management.

[FR Doc. 2023-04940 Filed 3-9-23; 8:45 am]

BILLING CODE 6325-38-P